SURFACE TRANSPORTATION BOARD

[Docket No. FD 36063]

Jersey Marine Rail, LLC—Petition for Declaratory Order

AGENCY: Surface Transportation Board.

ACTION: Notice of operation exemption.

SUMMARY: By decision served on January 31, 2017, the Board granted an exemption under 49 U.S.C. 10502 from the prior approval requirements of 49 U.S.C. 10901 for Jersey Marine Rail, LLC (JMR) to operate as a Class III rail carrier over approximately 5,000 feet of track within the City of Linden, N.J. JMR states that it intends to rehabilitate and restore rail service over the tracks, which include a three-track holding yard and three former industrial spur tracks. JMR states that all six tracks were previously served by a common carrier and have been out of service for up to 30 years. According to JMR, it leases the existing tracks and land upon which it proposes to restore service and operate for a term, with extensions, totaling 50 years. This transaction is exempt from environmental reporting requirements under 49 CFR 1105.6(c) because the operational changes would not exceed any of the thresholds established in 49 CFR 1105.7(e)(4) or (5).

DATES: The exemption will be effective on February 15, 2017; petitions to stay the exemption must be filed by February 7, 2017; and petitions for reconsideration of the exemption must be filed by February 9, 2017.

ADDRESSES: An original and ten copies of all pleadings, referring to Docket No. FD 36063, must be filed with the Surface Transportation Board, 395 E Street SW., Washington, DC 20423-0001. In addition, one copy of each filing in this proceeding must be served on JMR's representative: John F. McHugh, Attorney at Law, 233 Broadway, Suite 2320, New York, NY 10279.

FOR FURTHER INFORMATION CONTACT: Jonathon P. Binet, (202) 245-0368. [Assistance for the hearing impaired is available through the Federal Information Relay Service (FIRS) at: 1-800-877-8339].

Copies of written filings will be available for viewing and self-copying at the Board's Public Docket Room, Room 131, and will be posted to the Board's Web site.

SUPPLEMENTARY INFORMATION: Additional information is contained in the Board's decision. Board decisions and notices are available on our Web site at WWW.STB.GOV.

Decided: January 31, 2017.
By the Board, Rachel D. Campbell, Director, Office of Proceedings.
Brendetta S. Jones,
Clearance Clerk.

[FR Doc. 2017-02353 Filed 2-2-17; 8:45 am]

BILLING CODE 4915-01-P